DEPARTMENT OF COMMERCE

National Oceanic and Atmospheric Administration (NOAA)

Science Advisory Board; Open Meeting

AGENCY: Office of Oceanic and Atmospheric Research, NOAA, DOC.

ACTION: Notice of open meeting.

SUMMARY: The Science Advisory Board (SAB) was established by a Decision Memorandum dated September 25, 1997, and is the only Federal Advisory Committee with responsibility to advise the Under Secretary of Commerce for Oceans and Atmosphere on long- and short-range strategies for research, education, and application of science to resource management. SAB activities and advice provide necessary input to ensure that National Oceanic and Atmospheric Administration (NOAA) science programs are of the highest quality and provide optimal support to resource management.

Time and Date: The meeting will be held Tuesday, March 18, 2003, from 10 a.m. to 5:30 p.m.; and Wednesday, March 19, 2003, from 8 a.m. to 5:15 p.m. These times and the agenda topics described below may be subject to change. Refer to the web page listed below for the most up-to-date meeting agenda.

Place: The meeting will be held both days at the Washington Marriott Hotel, 1221 22nd Street, NW., Washington, DC.

Status: The meeting will be open to public participation with two 30-minute time periods set aside for direct verbal comments or questions from the public. The SAB expects that public statements presented at its meetings will not be repetitive of previously submitted verbal or written statements. In general, each individual or group making a verbal presentation will be limited to a total time of five (5) minutes. Written comments (at least 35 copies) should be received in the SAB Executive Director's Office by March 7, 2003, to provide sufficient time for SAB review. Written comments received by the SAB Executive Director after March 7, 2003, will be distributed to the SAB, but may not be reviewed prior to the meeting date. Approximately thirty (30) seats will be available for the public including five (5) seats reserved for the media. Seats will be available on a first-come, first-served basis.

Matters To Be Considered: The meeting will include the following topics: (1) The final report of the SAB Review Panel regarding NOAA Social Science Research, (2) the NOAA Climate Change Science Plan, (3) the NOAA Earth Observing Summit, (4) FY 2004 budget requests, (5) the U.S. Commission on Ocean Policy, (6) Pew Oceans Commission reports, (7) SONAR and marine mammals, (8) Stellar sea lions, (9) National Polar-orbiting Operational Environmental Satellite Systems, and (10) public statements.

FOR FURTHER INFORMATION CONTACT: Dr. Michael Uhart, Executive Director, Science Advisory Board, NOAA, Rm. 11142, 1315 East-West Highway, Silver Spring, Maryland 20910. (Phone: 301-713-9121, Fax: 301-713-0163, E-mail: Michael.Uhart@noaa.gov); or visit the NOAA SAB Web site at http://www.sab.noaa.gov.

Dated: February 25, 2003.
Louisa Koch,
Acting Assistant Administrator, OAR.

[FR Doc. 03-4823 Filed 2-28-03; 8:45 am]

BILLING CODE 3510-KD-M